DEPARTMENT OF TRANSPORTATION

Federal Railroad Administration

[Docket Number 2000-7912]

Notice of Cancellation of Public Hearing; The Union Pacific Railroad

On August 31, 2000, the Union Pacific Railroad (UP) petitioned the Federal Railroad Administration (FRA) seeking a waiver of compliance with the requirements of 49 CFR 214.329. UP requested relief that would permit the use of a system described by UP as the automatic train approach warning system (TAWS). FRA subsequently scheduled a public hearing seeking comments from interested parties on UP's proposal (65 FR 71200, November 29, 2000).

UP has withdrawn its petition for waiver (see Docket No. FRA-2000-7912, Document No. 11). Accordingly, the public hearing scheduled for this matter on Thursday, January 4, 2001 in Omaha, Nebraska is hereby cancelled.

Issued in Washington, D.C. on December 26, 2000.
Edward R. English,
Director, Office of Safety Enforcement.

[FR Doc. 00-33364 Filed 12-28-00; 8:45 am]

BILLING CODE 4910-06-P